DEPARTMENT OF HEALTH AND HUMAN SERVICES

Centers for Disease Control and Prevention

[30Day-17-17HO]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Test Predictability of Falls Screening Tools—New—National Center for Injury Prevention and Control (NCIPC), Centers for Disease Control and Prevention (CDC).

Background and Brief Description

Falls are the leading cause of fatal and nonfatal injuries among adults aged 65 and older in the US and represent a significant burden to the healthcare system. The first step in clinical falls prevention is for health care practitioners to administer a fall risk screening. The screening identifies whether adults 65 and older are at “increased risk” for a fall. Additional assessments and follow-up medical care (e.g., medication review, vitamin D supplements, vision testing, and physical therapy) are then given to those at increased risk. The initial screening step is critical because it identifies who will receive the assessments and follow-up care, which has the potential to place a large burden on health care practitioners and the health care system. Given the demands on health care practitioners, among them to reduce health care costs, it is important to have a screening tool that can reliably identify adults 65 and older who are likely to fall and thus need this additional care. Although there are a number of tools used to screen older adults for fall risk, there is currently no standard for fall risk screening across care settings. This is in part because many of the existing tools have never been tested to determine how well they predict future falls. Thus, research is needed to test the ability of existing screening tools and questions to predict falls in subsequent years.

The proposed data collection will compile a brief set of screening questions that are clinically useful for quickly sorting patients into risk levels for falls. It is expected that the screening questions identified in this project will be recommended for use by CDC as the standard for screening of falls for adults 65 and older in clinical settings. Questions will be asked to a nationally representative sample of adults 65 and older, who will then be followed with surveys repeated monthly over the following year to determine whether and how often they fall. Study data will be collected by internet or phone interviews, depending on respondents' preference. Interviews will consist of a baseline survey beginning immediately after OMB approval, 11 brief monthly update surveys for the 11 months after initial survey, and a final survey (similar in content to the baseline survey) 12 months after initial survey.

At baseline, exploratory factor analysis and confirmatory factor analysis will be used to demonstrate which survey items have the greatest likelihood of predicting future falls. To narrow down the larger list of survey items, item response theory will be used. Descriptive data analysis techniques will be used at every data collection time point in order to clean the data and to look for trends and outliers. Univariate and multivariate data analysis (primarily logistic regression) techniques will be used at 6 and 12 months after initial survey in order to determine which survey questions are related to fall status with statistical significance and to identify which survey questions have the greatest likelihood of predicting fall status while considering whether separate tools are necessary for key subgroups at high risk for falls, such as women and persons with prior history of falls.

OMB approval is requested for two years for this new collection. Findings from this data collection will be used to examine the predictability (sensitivity and specificity) of various sets of screening questions on the occurrence of falls, including medically treated falls. The estimated annual burden hours are 2,970. There are no costs to respondents.

Estimated Annualized Burden Hours
Type of respondents | Form name | Number of respondents | Number of responses per respondent | Average burden per response (in hours)
Participating AmeriSpeak Panelists | Initial Postcard-Email | 1,463 | 1 | 2/60
| Baseline Survey Web Mode | 570 | 1 | 20/60
| Baseline Survey Phone Mode | 380 | 1 | 30/60
| Monthly Update Survey (months 1-11) Web Mode | 570 | 11 | 10/60
| Monthly Update Survey (months 1-11) Phone Mode | 380 | 11 | 15/60
| Final Survey Web Mode | 570 | 1 | 20/60
| Final Survey Phone Mode | 380 | 1 | 30/60
| Falls Diary | 276 | 2 | 5/60
Proxy Respondents | Proxy Survey Web Mode Proxy Survey Phone Mode | 57 38 | 4 4 | 3/60 5/60

Leroy A. Richardson,
Chief, Information Collection Review Office, Office of Scientific Integrity, Office of the Associate Director for Science, Office of the Director, Centers for Disease Control and Prevention.

[FR Doc. 2017-20507 Filed 9-25-17; 8:45 am]

BILLING CODE 4163-18-P